ENVIRONMENTAL PROTECTION AGENCY

40 CFR Part 52

[IN135-1; FRL-6993-6]

Approval and Promulgation of Implementation Plans; Indiana

AGENCY: Environmental Protection Agency (EPA).

ACTION: Proposed rule.

SUMMARY: On November 15, 2000, the State of Indiana submitted a State Implementation Plan (SIP) revision request to the EPA which tightens Volatile Organic Compound (VOC) regulations for cold cleaning degreasing operations in Clark, Floyd, Lake and Porter Counties, which are nonattainment for ozone. VOC combines with oxides of nitrogen in the atmosphere to form ground-level ozone, commonly known as smog. Exposure to ozone is associated with a wide variety of human health effects, agricultural crop loss, and damage to forests and ecosystems. The State has included the tightened cold cleaning degreasing regulations in its 2002, 2005 and 2007 Rate-Of-Progress (ROP) Plans and its 2007 attainment demonstration for Lake and Porter Counties. Indiana expects that the control measures specified in this SIP revision will reduce VOC emissions in Clark, Floyd, Lake and Porter Counties. EPA is proposing to approve this SIP revision request.

DATES: Written comments must be received on or before July 9, 2001.

ADDRESSES: Written comments should be sent to: J. Elmer Bortzer, Chief, Regulation Development Section, Air Programs Branch (AR-18J), U.S. Environmental Protection Agency, 77 West Jackson Boulevard, Chicago, Illinois 60604.

Copies of this SIP revision request are available for public inspection during normal business hours at the following address: U.S. Environmental Protection Agency, Region 5, Air and Radiation Division, 77 West Jackson Boulevard, Chicago, Illinois 60604. (It is recommended that you telephone Steven Rosenthal at (312) 886-6052 before visiting the Region 5 Office.)

FOR FURTHER INFORMATION CONTACT: Steven Rosenthal, Air Programs Branch (AR-18J), U.S. Environmental Protection Agency, Region 5, 77 West Jackson Boulevard, Chicago, Illinois 60604,Telephone: (312) 886-6052, E-Mail: rosenthal.steven@epa.gov.

SUPPLEMENTARY INFORMATION: Throughout this document, the terms “you” and “me” refer to the reader of this proposed rulemaking and to sources subject to the State rule addressed by this proposed rulemaking, and the terms “we,” “us,” or “our” refer to the EPA.

Table of Contents

I. Background

A. What is a State Implementation Plan (SIP)?

B. What is the Federal approval process for a SIP?

C. What does Federal approval of a state regulation mean to me?

D. What is the purpose of this cold cleaning degreasing rule?

E. What are the key milestone dates for this rule?

II. Evaluation of the Rule

A. What are the basic components of the State's rule?

B. Is this rule approvable?

III. Proposed Action

A. What action is EPA proposing today?

IV. Administrative Requirements

I. Background

A. What Is a State Implementation Plan (SIP)

Section 110 of the Clean Air Act (Act or CAA) requires states to develop air pollution control regulations and strategies to ensure that state air quality meets the national ambient air quality standards established by the EPA. Each state must submit the regulations and emission control strategies to the EPA for approval and promulgation into the federally enforceable SIP.

Each federally approved SIP protects air quality primarily by addressing air pollution at its points of origin. The SIPs can be and generally are extensive, containing many state regulations or other enforceable documents and supporting information, such as emission inventories, monitoring documentation, and modeling (attainment) demonstrations.

B. What Is the Federal Approval Process for a SIP?

In order for state regulations to be incorporated into the federally enforceable SIP, states must formally adopt the regulations and emission control strategies consistent with state and federal requirements. This process generally includes public notice, public hearings, public comment periods, and formal adoption by state-authorized rulemaking bodies.

Once a state has adopted a rule, regulation, or emissions control strategy it submits it to us for inclusion into the SIP. We must provide public notice and seek additional public comment regarding the proposed federal action on the state submission. If we receive adverse comments we address them prior to any final federal action (we generally address them in a final rulemaking action).

The EPA incorporates into the federally approved SIP all state regulations and supporting information it has approved under section 110 of the Act. Records of such SIP actions are maintained in the Code of Federal Regulations (CFR) at Title 40, Part 52, titled “Approval and Promulgation of Implementation Plans.” The actual state regulations the EPA has approved are not reproduced in their entirety in the CFR, but are “incorporated by reference,” which means that EPA has approved a given state regulation (or rule) with a specific effective date.

C. What Does Federal Approval of a State Regulation Mean to Me?

Enforcement of a state regulation before and after it is incorporated into a federally approved SIP is primarily a state responsibility. After the regulation is federally approved, however, the CAA authorizes the EPA to take enforcement actions against violators. The CAA also offers citizens legal recourse to address violations, as provided in section 304 of the Act.

D. What Is the Purpose of This Cold Cleaning Degreasing Rule?

Section 182(c)(2)(B) of the Act requires any serious and above ozone nonattainment area to achieve post-1996 ROP reductions of 3 percent of VOC 1990 baseline emissions per year, averaged over each consecutive 3-year period, until the area has achieved attainment of the 1-hour ozone National Ambient Air Quality Standard. In Indiana, Lake and Porter Counties are classified as “severe” nonattainment for the 1-hour ozone standard. As such, the Northwest Indiana nonattainment area is subject to the post-1996 ROP requirement.

The Act specifies under section 182(b)(1)(C) that emission reductions claimed under ROP plans must be achieved through the implementation of control measures through revisions to the SIP, the promulgation of federal rules, or the issuance of permits under Title V of the Act. The state may not include as part of its ROP reduction control measures implemented before November 15, 1990.

Indiana has submitted tightened cold cleaning degreasing rules for the control of VOC as a revision to the SIP for the purpose of meeting post-1996 ROP requirements for the Northwest Indiana ozone nonattainment area and to reduce VOC emissions in Clark and Floyd counties. Cold cleaning degreasing is used to remove grease and oil from metal parts.

E. What Are the Key Milestone Dates for This Rule?

Indiana held a public hearing on the tightened rules on February 4, 1998, in Indianapolis, Indiana. The Indiana Air Pollution Control Board finally adopted the rules on November 4, 1998. The rule revisions became effective May 27, 1999, and were formally submitted to EPA on November 15, 2000, as a revision to the Indiana SIP for ozone.

The November 15, 2000, submittal includes amendments to 326 IAC 8-3-1 Applicability and 326 IAC 8-3-8 Material Requirements for Cold Cleaning Degreasers

II. Evaluation of the Rule

A. What Are the Basic Components of the State's Rule?

Indiana originally implemented cold cleaning degreasing rules, which are contained in 326 IAC 8-3, as part of its Reasonably Available Control Technology (RACT) requirements for VOC control. The November 15, 2000 SIP revision submittal amends section 326 IAC 8-3-1 and adds section 326 IAC 8-3-8, material requirements for cold cleaning degreasers, which tightens requirements for operators of cold cleaning degreasers and adds new requirements for sellers of solvent for use in cold cleaning degreasing operations. The rules are more stringent because a requirement has been added limiting the vapor pressure of the cleaning solvents to 1.0 millimeters of mercury (mm Hg), which is lower than the vapor pressure of cleaning solvents that are typically used. Lowering the vapor pressure reduces the amount of VOC emissions generated from this degreasing operation.

As previously discussed, this SIP revision submittal is required by the Act to the extent that Indiana submitted the rule to meet its post-1996 ROP requirements. The EPA will review the rule and address what emission reductions this SIP revision is expected to achieve for purposes of ROP when it undertakes rulemaking action on Indiana's post-1996 ROP plan for Northwest Indiana.

To determine whether the Indiana submittal meets the requirements for an approvable SIP revision, the EPA reviewed the rules for their consistency with section 110 and part D of the Act. A discussion of the rules and EPA's evaluation follows.

Material Requirements

Section 326 IAC 8-3-8 has been added to limit the vapor pressure of solvent used or sold for use in cold cleaning degreasing operations in Clark, Floyd, Lake and Porter Counties. Beginning November 1, 1999, the vapor pressure limit is 2.0 mm Hg, or 0.038 pounds per square inch (psi) measured at 20 degrees Celsius (C) (68 degrees Fahrenheit (F)). On May 1, 2001, the vapor pressures limit is tightened to 1.0 mm Hg (0.019 psi) measured at 20 degrees C (68 degrees F).

Exemptions

The supplier sale requirements in Section 326 IAC 8-3-8(c) do not apply to the sale of 5 gallons or less of solvents during any 7 consecutive days to an individual or business. This cutoff level is only expected to exempt a very small amount of the total solvent sold.

Section 326 IAC 8-3-8(a) exempts the cleaning of electronic components from the vapor pressure limits under section 326 IAC 8-3-8(c). Indiana has defined “electronic components” under section 326 IAC 8-3-8(b) as all components of an electronic assembly, including, but not limited to, circuit board assemblies, printed wire assemblies, printed circuit boards, soldered joints, ground wires, bus bars, and any other associated electronic component manufacturing equipment. Indiana added this exemption because solvents limited to 1.0 mmHg vapor pressure do not adequately clean certain types of electronic equipment.

Recordkeeping

Section 326 IAC 8-3-8(d) requires subject solvent suppliers and users to maintain documents which indicate the solvent's vapor pressure at the prescribed temperature. The marketers of cold cleaning solvents to users must keep records indicating the name and address of the solvent purchaser, the date of purchase, the type of solvent purchased, the unit volume of the solvent, the total volume purchased, and the vapor pressure of the solvent purchased measured in mmHg at 20 degrees C (68 degrees F). Solvent users must maintain records for each solvent purchase indicating the name and address of the solvent supplier, the date of the solvent purchase, the type of solvent purchased, and the vapor pressure of solvent measured in mmHg at 20 degrees C (68 degrees F). These records must be kept on-site for 3 years and be reasonably accessible for an additional 2 years.

As discussed above, these recordkeeping provisions require that both the sellers and users of the cleaning solvents keep records of the vapor pressure. Material Safety Data Sheets, which are required by Occupational Health and Safety regulations (20 CFR 1918), must specify the vapor pressure of the solvent (this Occupational Health and Safety requirement affects but is not directly referenced by Indiana's rule). In its response to a comment on recordkeeping Indiana stated (in the September 1, 1997, Indiana register): “To fulfill the recordkeeping requirements of this rule the user of a cold cleaning degreaser would need to maintain a Material Safety Data Sheet and a sales receipt.” These record requirements provide a sufficient basis to enforce the applicable rules.

B. Is This Rule Approvable?

This rule change requires the use of cleaning solvents with a lower vapor pressure than what is typically used. This makes the rule more stringent, because the lower the vapor pressure the less VOC emissions are generated. These rule revisions are, therefore, approvable.

III. Proposed Action

A. What Action Is EPA Proposing Today?

The EPA is proposing to approve Indiana's tightened cold cleaning degreasing rules for Clark, Floyd, Lake and Porter Counties.

IV. Administrative Requirements

Under Executive Order 12866 (58 FR 51735, October 4, 1993), this proposed action is not a “significant regulatory action” and therefore is not subject to review by the Office of Management and Budget. This proposed action merely proposes to approve state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects in 40 CFR Part 52

Environmental protection, Air pollution control, Volatile organic compounds, Ozone.

Authority: 42 U.S.C. 7401 et seq.

Dated: May 30, 2001.
Norman Neidergang,
Acting Regional Administrator, Region 5.

[FR Doc. 01-14377 Filed 6-6-01; 8:45 am]

BILLING CODE 6560-50-U